DEPARTMENT OF TRANSPORTATION

Federal Aviation Administration

Flammability Test Method for Aircraft Blankets

AGENCY: Federal Aviation Administration.

ACTION: Notice of availability for public comment.

SUMMARY: This notice announces the availability of and requests comments on a proposed Technical Standard Order (TSO) pertaining to a flammability test method for aircraft blankets. The proposed TSO prescribes the minimum performance standards that aircraft blankets must meet to be identified with the marking “TSO-C152.”

DATES: Comments must identify the TSO file number and be received on or before June 7, 2002.

ADDRESSES: Send all comments on the proposed technical standard order to: Technical Programs and Continued Airworthiness Branch, AIR-120, Aircraft Engineering Division, Aircraft Certification Service, Federal Aviation Administration, 800 Independence Avenue, SW., Washington, DC 20591. Or deliver comments to: Federal Aviation Administration, Room 815, 800 Independence Avenue, SW., Washington, DC 20591. Comments must identify the TSO file number.

FOR FURTHER INFORMATION CONTACT: Mr. Hal Jensen, Technical Programs and Continued Airworthiness Branch, AIR-120, Aircraft Engineering Division, Aircraft Certification Service, Federal Aviation Administration, 800 Independence Avenue, SW., Washington, DC 20591, FAX No. (202) 267-5340.

Comments Invited

Interested persons are invited to comment on the proposed TSO listed in this notice by submitting such written data, views, or arguments as they desire to the above specified address. Comments received on the proposed technical standard order may be examined, before and after the comment closing date, in Room 815, FAA Headquarters Building (FOB-10A), 800 Independence Avenue, SW., Washington, DC 20591, weekdays except Federal holidays, between 8:30 a.m. and 4:30 p.m. All communications received on or before the closing date for comments specified above will be considered by the Director of the Aircraft Certification Service before issuing the final TSO.

Background

This TSO is proposed to provide minimum performance standards for the flammability characteristics of blankets to be used for passenger comfort in aircraft cabins.

On November 28, 1993, the pilot of a Northwest Airlines B727-200 aircraft declared an emergency after a fire was reported in an overhead stowage bin. The fire was noticed just as the aircraft was being pushed back from the loading gate at Dorval International Airport. The fire was extinguished by crew members and all passengers were safely evacuated.

The stowage bin involved in the fire contained a personal carry-on bag and five 100 percent polyester airline blankets in two separate piles. The blankets were supplied by two different manufacturers. Upon completion of their investigation, the Transportation Safety Board (TSB) of Canada determined that the original source of fuel for the fire was the 100 percent polyester airline blankets. This conclusion was based on TSB testing of a section of unburned blanket. In their first test, a lit match was placed at the edge of the blanket. In their second test, a lit match was placed on top of the blanket. In both cases, the blanket ignited and rapid propagation of flame was observed.

The Federal Aviation Administration (FAA) does not require flammability testing of airline blankets. Therefore in light of the above incident, the U.S. National Transportation Safety Board asked the FAA to develop a fire performance test method and performance criteria for blankets suppled to commercial airline operators. At that time, many airlines used blankets that met only the FAA vertical Bunsen burner test criteria specified in Title 14 Code of Federal Regulations § 25.853. However, this test may be inappropriate as a measurement of ignitability for certain types of blankets since the polyester blankets involved in the Northwest Airlines B727-200 fire met the test criteria.

In March 1996, the FAA's Technical Center completed the development of a flammability test for blankets. The Technical Center published its report and included it in the FAA's Aircraft Materials Fire Test Handbook. In August 1996, the FAA issued Flight Standards Information Bulletin for Air Transportation (FSAT) 96-11 that recommended that air carriers replace old blankets at the end of their service life with blankets that met these new FAA-developed standards.

FSAT 96-11 expired in August 1997, and industry no longer had an FAA-approved flammability standard for aircraft blankets to reference. Therefore, the FAA is issuing Technical Standard Order (TSO) C152, Flammability Test Method for Aircraft Blankets.

How To Obtain Copies

A copy of the proposed TSO-C152 may be obtained via the Internet, http://www.faa.gov/avr/air/100home.htm, or on request from the office listed under “For Further Information Contact.” Copies of Advisory Circular (AC) 20-115, Radio Technical Commission for Aeronautics, Inc., Document RTCA/DO-178, AC 25-17, Transportation Airplane Cabin Interiors Crashworthiness Handbook, and DOT/FAA/CT-89/15, “Aircraft Materials Fire Test Handbook,” may be obtained from the U.S. Department of Transportation, Subsequent Distribution Office, SVC-121.23, 3341 Q 75th Avenue, Landover, MD 20785. Department of Transportation (DOT) Specifications may be purchased from the U.S. Department of Transportation Records Center, 400 7th Street SW, Washington, DC 20590.

Issued in Washington, DC, on March 7, 2002.
John McGraw,
Acting Manager, Aircraft Engineering Division, Aircraft Certification Service.

[FR Doc. 02-6129 Filed 3-22-02; 8:45 am]

BILLING CODE 4910-13-M